DEPARTMENT OF THE TREASURY

Internal Revenue Service

Privacy Act of 1974, as Amended

AGENCY: Internal Revenue Service, Treasury.

ACTION: Notice of proposed new system of records.

SUMMARY: In accordance with the requirements of the Privacy Act of 1974, as amended, 5 U.S.C. 522a, the Department of the Treasury, Internal Revenue Service gives notice of a newly proposed system of records entitled “Treasury/IRS 42.002—Excise Compliance Programs.”

DATES: Comments must be received no later than December 8, 2006. This new system of records will be effective December 18, 2006 unless the IRS receives comments which would result in a contrary determination.

ADDRESSES: Comments should be sent to the Office of Governmental Liaison and Disclosure, Internal Revenue Service, 1111 Constitution Ave., NW., Washington, DC 20224. Comments will be made available for inspection and copying in the Freedom of Information Act Reading Room (Room 1621), at the above address. The telephone number for the Reading Room is (202) 622-5164.

FOR FURTHER INFORMATION CONTACT: W. Ricky Stiff, Chief, Excise Tax Program, 1111 Constitution Ave., NW., Room 2016, Washington, DC 20224. Telephone number (202) 622-5521.

SUPPLEMENTARY INFORMATION: Currently the excise tax records in the proposed system are covered by IRS systems of records 24.046, 26.019, 42.001, and 42.021. However, the Excise Tax Compliance Programs have grown and become so distinct that they merit their own system of records. The Excise Tax Program covers a wide range of commercial business interests to include, but not limited to: Highway Use Tax; Wagering; Communication and Air Transportation; Fuel Taxes; Retail (Truck and Trailer); Ship Passenger; Luxury (Passenger Vehicle) Tax; Manufacturer Taxes (Coal—Highway Tires—Gas Guzzler); Foreign Insurance; Sport Fishing, and Ozone Depleting Chemicals.

Excise Tax matters generally involve businesses. However, the requirement to report activity and submit information, applies to individuals, as well as businesses, engaged in activity subject to Excise Tax. For an example, an individual, sole proprietor, independent, or tanker truck owner who carries fuel, would be required to file Form 2290 (Highway Use Tax) and Form 720-CS (Carrier Summary), an information return on fuel shipments. This is also applicable when an IRS Fuel Compliance Officer discovers an IRC section 6715 dyed diesel penalty, if the discovery was witnessed by a police officer participating in the roadside check. In such an instance, the name of the police officer may be recorded as part of the case record.

A proposed rule to exempt this system of records from provisions of the Privacy Act pursuant to 5 U.S.C. 552a(k)(2) will be published separately in the Federal Register.

The report of a new system of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

The proposed new system of records entitled “Treasury/IRS 42.002—Excise Compliance Programs” is published in its entirety below.

Dated: September 27, 2006.
Sandra L. Pack,
Assistant Secretary for Management and Chief Financial Officer.

TREASURY/IRS 42.002

System name:

Excise Compliance Programs—Treasury/IRS.

System location:

SBSE (Excise Program) area offices and IRS Campuses. See IRS Appendix A for addresses.

Categories of individuals covered by the system:

These records include information about individuals engaged in any taxable activity related to Excise Taxes; the filing, preparing, or transmitting of Federal Excise Taxes; or witnesses or other parties with knowledge of such taxable activity.

Categories of records in the system:

These records include information about individuals that are the subject of Excise Compliance Programs administered by the Internal Revenue Service or records pertaining to witnesses or other parties with knowledge of such taxable activity.

Authority for maintenance of the system:

5 U.S.C. 301 and 26 U.S.C. 7801.

Purpose:

These records are used to administer the Federal Excise Compliance Program.

Routine uses of records maintained in the system, including categories of users and the purpose of such use:

Disclosure of return and return information may be made only as provided by 26 U.S.C. 6103. Material covered by rule 6(e) of the Federal Rules of Criminal Procedure may be disclosed only as permitted by that rule.

Policies and practices for storing, retrieving, accessing, retaining, and disposing of records in the system:

Storage:

Paper records and electronic media.

Retrievability:

Records are retrievable by individual name, taxpayer identification number (Social Security Number, employer identification number or other IRS assigned identification number), and document locator number.

Safeguards:

Access controls are not less than those published in IRM 25.10.1, Information Technology (IT) Security Policy and Guidance, and IRM 1.16, Physical Security Program.

Retention and disposal:

Records are maintained in accordance with IRM 1.15, Records Management.

System manager(s) and address:

Commissioner SB/SE (Excise Program), See IRS appendix A for addresses.

Notification procedure:

This system may not be accessed for purposes of determining whether the system contains a record pertaining to a particular individual. The records are exempt under 5 U.S.C. 552a(k)(2) from the notification provisions of the Privacy Act.

Record access procedures:

Individuals seeking access to any record contained in this system of records, or seeking to contest its content, may inquire in accordance with instructions appearing at 31 CFR Part 1, subpart C, appendix B. The IRS may assert 5 U.S.C. 552a(d)(5) as appropriate.

Contesting record procedures:

26 U.S.C. 7852(e) prohibits Privacy Act amendment of tax records.

Record source categories:

Filed IRS Forms 720, 720-TO/CS, 637, 2290, 8849; Customs Form 7501, Entry Summary; Dyed diesel fuel inspections; individuals engaged in any activity related to excise taxes, or the filing, preparing, or transmitting of excise taxes; witnesses or other parties with knowledge of such activity.

Exemptions claimed for the system:

Records maintained in this system have been designated as exempt from 5 U.S.C. 552a(c)(3), (d)(1), (2), (3), and (4), (e)(1), (e)(4)(G), (H), and (I), and (f) of the Privacy Act pursuant to 5 U.S.C. 552a(k)(2). See 31 CFR 1.36.

[FR Doc. E6-18851 Filed 11-7-06; 8:45 am]

BILLING CODE 4830-01-P